DEPARTMENT OF ENERGY

Federal Energy Regulatory Commission

Combined Notice of Filings #1

Take notice that the Commission received the following electric rate filings:

Docket Numbers: ER15-1456-008; ER10-1933-006; ER10-2615-013; ER10-2934-014; ER10-2959-015; ER11-2335-014; ER11-3859-019; ER11-4634-008; ER14-1699-009; ER15-1457-008; ER15-748-005; ER16-999-009; ER17-436-007; ER18-920-004; ER19-464-001; ER19-967-002; ER19-968-002.

Applicants: Beaver Falls, L.L.C., Chambers Cogeneration, Limited Partnership, Dighton Power, LLC, Fairless Energy, L.L.C., Garrison Energy Center LLC, Greenleaf Energy Unit 1 LLC, Hazleton Generation LLC, Logan Generating Company, L.P., Manchester Street, L.L.C., Marco DM Holdings, L.L.C., Marcus Hook Energy, L.P., Milford Power, LLC, Plum Point Energy Associates, LLC, Plum Point Services Company, LLC, RockGen Energy, LLC, Syracuse, L.L.C., Vermillion Power, L.L.C.

Description: Notice of Change in Status of the SEG MBR Entities.

Filed Date: 8/8/19.

Accession Number: 20190808-5159.

Comments Due: 5 p.m. ET 8/29/19.

Docket Numbers: ER18-92-002.

Applicants: Carroll County Energy LLC.

Description: Report Filing: Refund Report to be effective N/A.

Filed Date: 8/8/19.

Accession Number: 20190808-5072.

Comments Due: 5 p.m. ET 8/29/19.

Docket Numbers: ER19-2556-000.

Applicants: TransCanyon DCR, LLC.

Description: § 205(d) Rate Filing: TransCanyon Gates Notice of Succession to be effective 7/9/2019.

Filed Date: 8/8/19.

Accession Number: 20190808-5090.

Comments Due: 5 p.m. ET 8/29/19.

Docket Numbers: ER19-2557-000.

Applicants: Missisquoi, LLC.

Description: Baseline eTariff Filing: Missisquoi, LLC MBR Tariff to be effective 8/9/2019.

Filed Date: 8/8/19.

Accession Number: 20190808-5113.

Comments Due: 5 p.m. ET 8/29/19.

Docket Numbers: ER19-2558-000.

Applicants: AEP Texas Inc.

Description: § 205(d) Rate Filing: AEPTX-KC Wind System Upgrade Agreement to be effective 7/18/2019.

Filed Date: 8/8/19.

Accession Number: 20190808-5114.

Comments Due: 5 p.m. ET 8/29/19.

Docket Numbers: ER19-2559-000.

Applicants: Midcontinent Independent System Operator, Inc.

Description: § 205(d) Rate Filing: 2019-08-08_Tariff revisons for PRA Process Timeline to be effective 10/8/2019.

Filed Date: 8/8/19.

Accession Number: 20190808-5120.

Comments Due: 5 p.m. ET 8/29/19.

Docket Numbers: ER19-2560-000.

Applicants: Niagara Mohawk Power Corporation.

Description: § 205(d) Rate Filing: Niagara Mohawk Power Corp. Filing of Revised Market-Based Sales Tariff to be effective 10/9/2019.

Filed Date: 8/9/19.

Accession Number: 20190809-5060.

Comments Due: 5 p.m. ET 8/30/19.

Docket Numbers: ER19-2561-000.

Applicants: New England Power Company.

Description: § 205(d) Rate Filing: New England Power Filing of Revised Market-Based Sales Tariff to be effective 10/9/2019.

Filed Date: 8/9/19.

Accession Number: 20190809-5061.

Comments Due: 5 p.m. ET 8/30/19.

Docket Numbers: ER19-2562-000.

Applicants: Massachusetts Electric Company.

Description: § 205(d) Rate Filing: Massachusetts Electric Co. Filing of Revised Market-Based Sales Tariff to be effective 10/9/2019.

Filed Date: 8/9/19.

Accession Number: 20190809-5062.

Comments Due: 5 p.m. ET 8/30/19.

Docket Numbers: ER19-2563-000.

Applicants: The Narragansett Electric Company.

Description: § 205(d) Rate Filing: Narragansett Electric Co. Filing of Revised Market-Based Sales Tariff to be effective 10/9/2019.

Filed Date: 8/9/19.

Accession Number: 20190809-5063.

Comments Due: 5 p.m. ET 8/30/19.

Docket Numbers: ER19-2564-000.

Applicants: Hickory Run Energy, LLC.

Description: Baseline eTariff Filing: Market-Based Rates Application to be effective 10/9/2019.

Filed Date: 8/9/19.

Accession Number: 20190809-5066.

Comments Due: 5 p.m. ET 8/30/19.

Docket Numbers: ER19-2565-000.

Applicants: ISO New England Inc., New England Power Pool Participants Committee.

Description: § 205(d) Rate Filing: ISO-NE and NEPOOL; Filing re Import Transaction Requirement Updates to be effective 10/23/2019.

Filed Date: 8/9/19.

Accession Number: 20190809-5075.

Comments Due: 5 p.m. ET 8/30/19.

Docket Numbers: ER19-2566-000.

Applicants: PacifiCorp.

Description: § 205(d) Rate Filing: WI Unscheduled Flow Mitigation Plan Rev 4 to be effective 10/9/2019.

Filed Date: 8/9/19.

Accession Number: 20190809-5104.

Comments Due: 5 p.m. ET 8/30/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 9, 2019.
Kimberly D. Bose,
Secretary.

[FR Doc. 2019-17531 Filed 8-14-19; 8:45 am]

BILLING CODE 6717-01-P